DEPARTMENT OF TRANSPORTATION

Federal Railroad Administration

49 CFR Part 271

[Docket No. FRA-2025-0113]

RIN 2130-AD52

Administrative Updates to the Federal Railroad Administration's Risk Reduction Program Regulations

AGENCY: Federal Railroad Administration (FRA), U.S. Department of Transportation (DOT).

ACTION: Final rule.

SUMMARY: This rule makes administrative updates to FRA's risk reduction program regulations, including updating addresses in those regulations.

DATES: Effective July 1, 2025.

FOR FURTHER INFORMATION CONTACT: Veronica Chittim, Senior Attorney, Office of Safety Law, Office of the Chief Counsel, FRA, 1200 New Jersey Avenue SE, Washington, DC 20590 (telephone 202-480-3410), veronica.chittim@dot.gov; or Lucinda Henriksen, Senior Advisor, Office of Railroad Safety, FRA (telephone 202-657-2842), lucinda.henriksen@dot.gov.

SUPPLEMENTARY INFORMATION:

I. Background

Consistent with the deregulatory agenda of President Donald J. Trump and Secretary of Transportation Sean P. Duffy, which seeks to unleash America's economic prosperity without compromising transportation safety, and as described in more detail below, this rule is making miscellaneous, administrative updates to its regulations in 49 CFR part 271. These changes include updating addresses that are no longer valid.

II. Section-by-Section Analysis

Part 271

§ 271.9 Penalties and Responsibility for Compliance

FRA is amending § 271.9(a) to update the web address from www.fra.dot.gov to https://railroads.dot.gov/.

§ 271.13 Determination of Inadequate Safety Performance

FRA is amending § 271.13(c)(1)(i) to replace the mailing address with the email address FRA-RRP@dot.gov.

§ 271.15 Voluntary Compliance

FRA is amending § 271.15(c) to replace the mailing address with the email address FRA-RRP@dot.gov.

§ 271.207 Consultation Requirements

FRA is amending § 271.207(e)(1) to replace the mailing address with the email address FRA-RRP@dot.gov.

§ 271.301 Filing and Approval

FRA is amending § 271.301(a) and (b)(4)(i) to replace the mailing address with the email address FRA-RRP@dot.gov. FRA is removing § 271.301(e), as the language is superfluous, given the overall update to electronic submissions.

§ 271.303 Amendments

FRA is amending § 270.303(b)(1) to direct a railroad to submit any amendment to the email address FRA-RRP@dot.gov.

§ 271.405 Internal Assessment Reports

FRA is amending § 271.405(a) to replace the mailing address with the email address FRA-RRP@dot.gov.

§ 271.503 External Audit Improvement Plans

FRA is amending § 271.503(a) to replace the mailing address with the email address FRA-RRP@dot.gov.

§ 271.605 General Requirements; Procedure

FRA is amending § 271.605(c)(1) and (2) to direct a railroad to submit an FRMP plan or an update to that FRMP plan to the email address FRAFatigue@dot.gov.

§ 271.609 Requirements for an FRMP Plan

FRA is amending § 271.609(a) to direct a railroad to submit an FRMP plan to the email address FRAFatigue@dot.gov.

Appendix B Procedures for Submission of RRP Plans and Statements From Directly Affected Employees

FRA is amending appendix B in the introductory language for clarity. Under the heading “Submission by a Railroad and Directly Affected Employees,” in paragraph (a), FRA is correcting a reference to § 271.201, to the proper filing provision, § 271.301. FRA is replacing the mailing address (Mail Stop 25, 1200 New Jersey Avenue SE, Washington, DC 20590) in paragraph (c) with the email address FRA-RRP@dot.gov. FRA is revising paragraph (d) and removing paragraph (e) to account for electronic submissions throughout part 271. Finally, FRA is amending this appendix to affirmatively reference amendments to RRP plans.

III. Public Participation

Under the Administrative Procedure Act (APA), an agency may waive the normal notice and comment procedures if the action is a rule of agency organization, procedure, or practice. 5 U.S.C. 553(b)(A). Additionally, under the APA, an agency may waive notice and comment procedures when the agency for good cause finds that notice and public procedure are impracticable, unnecessary, or contrary to the public interest. 5 U.S.C. 553(b)(B). Since this final rule merely makes miscellaneous, administrative updates to the CFR, such as updating web addresses, it would not benefit from public comment, and notice and comment is not necessary.

IV. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

Because this final rule makes administrative changes such as updating web and email addresses, this final rule imparts no additional burdens on regulated entities. Moreover, this rule will provide some qualitative benefits to regulated entities and the U.S. government, by clarifying the language of part 271 and directing the regulated entities to the appropriate sites in the CFR. Additionally, this final rule allows electronic methods, such as email, for documents. This will expedite the speed at which documents are delivered while also reducing costs that would otherwise exist from having to physically print, mail, and process documents.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

There is no new collection of information requirements contained in this final rule, and in accordance with the Paperwork Reduction Act of 1995, 44 U.S.C. 3501 et seq., therefore, an information collection submission to the OMB is not required. The recordkeeping and reporting requirements already contained in part 271 became effective when they were approved by OMB on December 05, 2023. The OMB Control No. is 2130-0610, and OMB approval expires on December 31, 2026.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use (66 FR 28355, May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this final rule in accordance with the principles and criteria contained in E.O. 13175, Consultation and Coordination with Indian Tribal Governments, (Nov. 6, 2000). The final rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the U.S. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the U.S.

List of Subjects in 49 CFR Part 271

Penalties, Railroad safety, Reporting and recordkeeping requirements, Risk reduction.

The Final Rule

In consideration of the foregoing, FRA amends part 271 of chapter II, subtitle B of title 49, Code of Federal Regulations as follows:

PART 271—RISK REDUCTION PROGRAM

1. The authority citation for part 271 is revised to read as follows:

Authority: 49 U.S.C. 20103, 20106-20107, 20118-20119, 20156, 21301, 21304, 21311; 28 U.S.C. 2461 note; and 49 CFR 1.89.

2. In § 271.9(a), revise the last sentence to read as follows:

§ 271.9 Penalties and responsibility for compliance.

(a) * * * See FRA's website at https://railroads.dot.gov/ for a statement of agency civil penalty policy.

* * * * *

3. In § 271.13(c)(1)(i), revise the last sentence to read as follows:

§ 271.13 Determination of inadequate safety performance.

* * * * *

(c) * * *

(1) * * *

(i) * * * The notification shall inform railroad employees that they may confidentially submit comments to FRA regarding the railroad's safety performance and that employees shall file any such comments with the FRA Associate Administrator for Railroad Safety and Chief Safety Officer at FRA-RRP@dot.gov no later than 45 days following FRA's initial written notice.

* * * * *

4. Revise § 271.15(c) to read as follows:

§ 271.15 Voluntary compliance.

* * * * *

(c) Notification to discontinue compliance. After this five-year period, a voluntarily-compliant railroad may discontinue compliance with this part by providing written notice to the FRA Associate Administrator for Railroad Safety and Chief Safety Officer at FRA-RRP@dot.gov.

* * * * *

5. Revise § 271.207(e)(1) to read as follows:

§ 271.207 Consultation requirements.

* * * * *

(e) * * *

(1) If a railroad and its directly affected employees cannot reach agreement on the proposed contents of an RRP plan, the directly affected employees may file a statement explaining their views on the plan on which agreement was not reached with the FRA Associate Administrator for Railroad Safety and Chief Safety Officer at FRA-RRP@dot.gov. The FRA Associate Administrator shall consider any such views during the plan review and approval process.

* * * * *

6. Amend § 271.301 by

a. Revising paragraphs (a) and (b)(4)(i); and

b. Remove paragraph (e).

The revisions read as follows:

§ 271.301 Filing and approval.

(a) Filing. A railroad shall submit one copy of its RRP plan to the FRA Associate Administrator for Railroad Safety and Chief Safety Officer at FRA-RRP@dot.gov.

* * * * *

(b) * * *

(4)(i) Before submitting an RRP plan for FRA's review and approval, a voluntarily-compliant railroad shall notify FRA of its intent to submit an RRP plan by providing written notice to the FRA Associate Administrator for Railroad Safety and Chief Safety Officer at FRA-RRP@dot.gov.

* * * * *

7. Revise the first sentence in § 271.303(b)(1) to read as follows:

§ 271.303 Amendments.

* * * * *

(b) * * *

(1) A railroad shall submit any amendment(s) to its approved RRP plan to FRA's Associate Administrator at FRA-RRP@dot.gov not less than 60 days before the proposed effective date of the amendment(s). * * *

* * * * *

8. Revise § 271.405(a) to read as follows:

§ 271.405 Internal assessment reports.

(a) Within 60 days of completing its internal assessment, a railroad shall submit a copy of an internal assessment report to the FRA Associate Administrator for Railroad Safety and Chief Safety Officer at FRA-RRP@dot.gov.

* * * * *

9. Revise § 271.503(a) to read as follows:

§ 271.503 External audit improvement plans.

(a) Submission. Within 60 days of receiving FRA's written notice of the audit results, if necessary, a railroad shall submit for approval an improvement plan addressing any instances of deficiency or non-compliance found in the audit to the FRA Associate Administrator for Railroad Safety and Chief Safety Officer at FRA-RRP@dot.gov.

* * * * *

10. Revise § 271.605(c) to read as follows:

§ 271.605 General requirements; procedure.

* * * * *

(c)(1) A railroad shall submit an FRMP plan for approval to the FRA Associate Administrator for Railroad Safety and Chief Safety Officer at FRAFatigue@dot.gov no later than either the applicable timeline in § 271.301(b) for filing its RRP plan or July 13, 2023, whichever is later; and

(2) A railroad shall submit updates to its FRMP plan to the FRA Associate Administrator for Railroad Safety and Chief Safety Officer at FRAFatigue@dot.gov, under the process for amending its RRP plan in § 271.303.

* * * * *

11. Revise the last sentence of § 271.609(a) to read as follows:

§ 271.609 Requirements for an FRMP plan.

(a) * * * The railroad must submit the plan for approval to the FRA Associate Administrator for Railroad Safety and Chief Safety Officer at FRAFatigue@dot.gov, under the criteria of subpart D.

* * * * *

12. Amend appendix B to part 271 by:

a. Revising the introductory text;

b. Under the heading “Submission by a Railroad and Directly Affected Employees,” revising paragraphs (a), (c). and (d) and removing paragraph (e).

The revisions to read as follows:

Appendix B to Part 271—Procedures for Submission of RRP Plans, RRP Plan Amendments, and Statements From Directly Affected Employees

This appendix summarizes procedures for the submission of an RRP plan, an amendment to an already-approved RRP plan, or a statement by directly affected employees consistent with the requirements of this part.

Submission by a Railroad and Directly Affected Employees

(a) As provided for in § 271.101(a), each railroad must establish and fully implement an RRP that continually and systematically evaluates railroad safety hazards on its system and manages the resulting risks to reduce the number and rates of railroad accidents, incidents, injuries, and fatalities. The RRP shall be fully implemented and supported by a written RRP plan. Each railroad must submit its RRP plan to FRA for approval as provided for in § 271.301 and RRP plan amendments as provided for in § 271.303.

* * * * *

(c) The railroad's and directly affected employees' submissions shall be sent to the Associate Administrator for Railroad Safety and Chief Safety Officer, FRA, at FRA-RRP@dot.gov. When a railroad submits to FRA its RRP plan and consultation statement pursuant to § 271.301 or RRP plan amendment and consultation statement pursuant to § 271.303, it must also simultaneously send a copy of these documents to all individuals identified in the service list pursuant to § 271.207(d)(3) or § 271.303.

(d) Each railroad and directly affected employee is authorized to file by electronic means any submissions required under this part. A railroad that electronically submits an initial RRP plan or an RRP plan amendment pursuant to this part shall be considered to have provided its consent to receive approval or disapproval notices from FRA by email. FRA may electronically store any materials required by this part.

Issued in Washington, DC.
Kyle D. Fields,
Chief Counsel.

[FR Doc. 2025-12185 Filed 6-27-25; 4:15 pm]

BILLING CODE 4910-06-P